ENVIRONMENTAL PROTECTION AGENCY

[FRL-8024-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1362.06; National Emission Standards for Coke Oven Batteries (Renewal); in 40 CFR part 63, subpart L; was approved December 16, 2005; OMB Number 2060-0253; expires December 31, 2008.

EPA ICR No. 2159.02; Background Checks for Contractor Employees (Renewal); was approved December 11, 2005; OMB Number 2030-0043; expires December 31, 2008.

EPA ICR No. 2183.02; Drug Testing for Contractor Employees (Renewal); was approved December 11, 2005; OMB Number 2030-0044; expires December 31, 2008.

EPA ICR No. 1432.25; Recordkeeping and Periodic Reporting of the Production, Import, Export, Recycling, Destruction, Transshipment, and Feedstock Use of Ozone-Depleting Substances (Renewal); in 40 CFR part 82, subpart E and 40 CFR part 82, subpart A, § 83.13; was approved December 13, 2005; OMB Number 2060-0170; expires December 31, 2008.

EPA ICR No. 2212.01; MBE/WBE Utilization Under Federal Grants, Cooperative Agreements and Interagency Agreements; was approved December 22, 2005; OMB Number 2090-0025; expires June 30, 2006.

EPA ICR No. 1617.05; Servicing of Motor Vehicle Air Conditioners; in 40 CFR part 82; was approved December 30, 2005; OMB Number 2060-0247; expires December 31, 2008.

EPA ICR No. 1292.07; Enforcement Policy Regarding the Sale and Use of Aftermarket Catalytic Converters (Renewal); was approved December 30, 2005; OMB Number 2060-0135; expires December 31, 2008.

EPA ICR No. 1081.08; NESHAP for Inorganic Arsenic Emissions from Glass Manufacturing Plants (Renewal); in 40 CFR part 61, subpart N; was approved January 5, 2006; OMB Number 2060-0043; expires January 31, 2009.

EPA ICR No. 1100.12; NESHAP for Radionuclides (Renewal); in 40 CFR part 61, subparts B, K, R, and W; was approved January 5, 2006; OMB Number 2060-0191; expires January 31, 2009.

EPA ICR No. 2056.02 NESHAP for Miscellaneous Metal Parts and Products (Renewal); in 40 CFR part 63, subpart MMMM; was approved January 6, 2006; OMB Number 2060-0486; expires January 31, 2009.

Dated: January 10, 2006.
Oscar Morales,
Director, Collection Strategies Division.

[FR Doc. E6-922 Filed 1-24-06; 8:45 am]

BILLING CODE 6560-50-P